DEPARTMENT OF COMMERCE

International Trade Administration

[A-427-801, A-428-801, A-475-801, A-588-804, A-559-801, A 412-801]

Antifriction Bearings and Parts Thereof From France, Germany, Italy, Japan, Singapore, and the United Kingdom: Final Results of Antidumping Duty Administrative Reviews, Rescission of Administrative Reviews in Part, and Determination To Revoke Order in Part

AGENCY: Import Administration, International Trade Administration, Department of Commerce.

SUMMARY: On February 9, 2004, the Department of Commerce published the preliminary results of the administrative reviews of the antidumping duty orders on ball bearings and parts thereof from France, Germany, Italy, Japan, Singapore and the United Kingdom and of the antidumping duty order on spherical plain bearings and parts thereof from France. The reviews cover 173 manufacturers/exporters. The period of review is May 1, 2002, through April 30, 2003.

Based on our analysis of the comments received, we have made changes, including corrections of certain programming and other clerical errors, in the margin calculations. Therefore, the final results differ from the preliminary results. The final weighted-average dumping margins for the reviewed firms are listed below in the section entitled “Final Results of the Reviews.”

DATES: Effective September 15, 2004.

FOR FURTHER INFORMATION: The Department of Commerce (the Department) received numerous requests for reviews of companies under multiple orders. Please contact the appropriate analyst as outlined in the following chart at AD/CVD Enforcement, Office 5, Import Administration, International Trade Administration, U.S. Department of Commerce, Washington, DC 20230; telephone: (202) 482-4733.

Company | Country | Analyst
Ace Bearing and Transmission Co | France, Germany, Italy | Edythe Artman.
Acorn Industrial Service Limited | France, Germany, Italy | Jeffrey Frank.
Aeroengine Bearings U.K. | United Kingdom | Catherine Cartsos.
Aktif Endustrie Malzemeleri | France, Germany, Italy | Lyn Johnson.
Alphateam SPRL | France, Germany, Italy | Catherine Cartsos.
Asahi Seiko Co., Ltd. | Japan | Thomas Schauer.
Australian Bearing Pty Ltd. | France, Germany, Italy | Dmitry Vladimirov.
Baltic Bearing Supply | France, Germany, Italy | Yang Jin Chun.
Barden/FAG | United Kingdom | Jeffrey Frank.
Bearing and Tool GmbH | France, Germany, Italy | Catherine Cartsos.
Bearing Discount International GmbH | France, Germany, Italy | Fred Aziz.
Bearing Dynamics | France, Germany, Italy | Janis Kalnins.
Bearing Net | France, Germany, Italy | Susan Lehman.
Bearing Sales Corporation | France, Germany, Italy | Jeffrey Frank.
BTM Bearing Trade F.C. Miltner | France, Germany, Italy, United Kingdom | Hermes Pinilla.
Cantoni and C.S.N.C. | France, Germany, Italy | Susan Lehman.
CCVI Bearing Company | France, Germany, Italy | Kristin Case.
Comal SNC | France, Germany, Italy | Dmitry Vladimirov.
DCD Corporation | France, Germany, Italy | Dunyako Ahmadu.
EuroLatin Ex. Services | France, Germany, Italy | Susan Lehman.
Ever-on Corporation (formerly Taisho Kiko Co. Ltd.) | France, Germany, Italy | Kristin Case.
FAG Italia S.p.A. | Italy | Minoo Hatten.
Fair Friend Ent. Co. Ltd. | France, Germany, Italy | Kristin Case.
Friedrich Picard GmbH | France, Germany, Italy | Susan Lehman.
Frohlich and Dorken GmbH | France, Germany, Italy | Jeffrey Frank.
Han Sol Tech Corp./Yoo Shin Co. | France, Germany, Italy | Janis Kalnins.
Hayley Import/Export | France, Germany, Italy | Yang Jin Chun.
Heinz Knust | France, Germany, Italy | Catherine Cartsos.
Hergenhan GmbH | France, Germany, Italy | Catherine Cartsos.
Hoens Industrieel BV | France, Germany, Italy | Dmitry Vladimirov.
IBD Ltd. | France, Germany, Italy | Edythe Artman.
INA Schaeffer KG and FAG Kugelfischer Georg Schaefer AG (INA/FAG) | Germany | Susan Lehman/Dmitry Vladmirov.
International Bearing Pte. Ltd. | France, Germany, Italy | Susan Lehman.
Interspecies Donath GmbH | France, Germany, Italy | Lyn Johnson.
Italcuscinetti Group | France, Germany, Italy | Dunyako Ahmadu.
Kian Ho Bearings, Ltd. | France, Germany, Italy | Edythe Artman.
KIS Antriebs Technik GmbH | France, Germany, Italy | Dunyako Ahmadu.
Koyo Seiko Co., Ltd. | Japan | Tom Schauer.
KSM, Minamiguchi/Bearing MFG. Co | France, Germany, Italy | Lyn Johnson.
LTM Industrietechnik | France, Germany, Italy | Dmitry Vladimirov.
M. Buchhalter Maschenmode/Hergenhan | France, Germany, Italy | Yang Jin Chun.
Micaknowledge | France, Germany, Italy | Catherine Cartsos.
Minetti SpA | France, Germany, Italy | Fred Aziz.
Ming Hing Trading Company | France, Germany, Italy | Janis Kalnins.
Motion Bearing Pte. Ltd. | France, Germany, Italy | Susan Lehman.
Nankai Seiko | Japan | Catherine Cartsos.
NMB/Pelmec | Singapore | Yang Jin Chun.
Nippon Pillow Block Sales (NPBS) | Japan | Yang Jin Chun.
NSK Ltd. (NSK) | Japan | Dunyako Ahmadu.
NTN Corp. (NTN) | Japan | Hermes Pinilla.
Osaka Pump Co. Ltd. | Japan | Edythe Artman.
Paul Mueller | Germany | Dave Dirstine.
Ringball Corporation | France, Germany, Italy | Dave Dirstine.
Rodamietos Rovi | France, Germany, Italy | Jeffrey Frank.
Roeirasa | France, Germany, Italy | Susan Lehman.
Rolling Bearing Co. Pty. Ltd. | France, Germany, Italy | Kristin Case.
Rovi-Marcay | France, Germany, Italy | Tom Schauer.
Rovi-Valencia | France, Germany, Italy | Minoo Hatten.
Sapporo Precision Bearings, Inc. (Sapporo) | Japan | Jeffrey Frank.
SKF France S.A. and Sarma | France | Dunyako Ahmadu.
SKF GmbH | Germany | Kristin Case.
SKF Industrie S.p.A. | Italy | Dunyako Ahmadu.
SKF (U.K.) Ltd. | United Kingdom | Kristin Case.
SNR Roulements | France | Fred Aziz.
Sprint Engineering | France, Germany, Italy | Susan Lehman.
Takeshita Seiko Co. Ltd. | Japan | Janis Kalnins.
Taninaka Ltd. | France, Germany, Italy | Susan Lehman.
Timken | Germany | Kristin Case.
Top G Trading Pte Ltd. | France, Germany, Italy | Catherine Cartsos.
Weber Kugellager International | France, Germany, Italy | Fred Aziz.
Withus Technology Corp. | France, Germany, Italy | Janis Kalnins.
Wyko Export | France, Germany, Italy | Yang Jin Chun.

SUPPLEMENTARY INFORMATION:

Background

On February 9, 2004, the Department published the preliminary results of the administrative reviews of the antidumping duty orders on antifriction bearings and parts thereof (antifriction bearings) from France, Germany, Italy, Japan, Singapore, and the United Kingdom (69 FR 5949) (Preliminary Results for France, et al.). The period of review (POR) is May 1, 2002, through April 30, 2003. We invited interested parties to comment on the preliminary results. At the request of certain parties, we held hearings for Japan-specific issues on May 21, 2004, and for general issues on June 25, 2004. On May 3, 2004, and August 12, 2004, the Department published notices extending the date for issuing the final results of these reviews. See Antifriction Bearings and Parts Thereof From France, Germany, Italy, Japan, Singapore, and the United Kingdom: Extension of Time Limit for Final Results of Antidumping Duty Administrative Reviews, 69 FR 24121 and 69 FR 49861, respectively. The Department has conducted these administrative reviews in accordance with section 751 of the Tariff Act of 1930, as amended (the Act).

Scope of Reviews

The products covered by these reviews are antifriction bearings (other than tapered roller bearings) and parts thereof (AFBs) and constitute the following merchandise:

1. Ball Bearings and Parts Thereof: These products include all AFBs that employ balls as the rolling element. Imports of these products are classified under the following categories: Antifriction balls, ball bearings with integral shafts, ball bearings (including radial ball bearings) and parts thereof, and housed or mounted ball bearing units and parts thereof.

Imports of these products are classified under the following Harmonized Tariff Schedules (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

2. Spherical Plain Bearings, Mounted and Unmounted, and Parts Thereof: These products include all spherical plain bearings that employ a spherically-shaped sliding element and include spherical plain rod ends.

Imports of these products are classified under the following HTS subheadings: 3926.90.45, 4016.93.00, 4016.93.10, 4016.93.50, 6909.50.10, 8483.30.80, 8483.90.30, 8485.90.00, 8708.93.5000, 8708.99.50, 8803.10.00, 8803.20.00, 8803.30.00, 8803.90.30, and 8803.90.90.

Although the HTSUS item numbers above are provided for convenience and customs purposes, written descriptions of the scope of these proceedings remain dispositive.

The size or precision grade of a bearing does not influence whether the bearing is covered by one of the orders. These orders cover all the subject bearings and parts thereof (inner race, outer race, cage, rollers, balls, seals, shields, etc.) outlined above with certain limitations. With regard to finished parts, all such parts are included in the scope of the these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a listing of scope determinations which pertain to the orders, see the Memorandum from the Antifriction Bearings Team to Laurie Parkhill regarding the placement of scope information from the 2001-02 administrative review record on the record of these administrative reviews, dated January 14, 2004. This memorandum is on file in the Central Records Unit (CRU), Main Commerce Building, Room B-099, in the General Issues record (A-100-001) for the 02/03 reviews.

Analysis of the Comments Received

All issues raised in the case and rebuttal briefs by parties to the concurrent administrative reviews of the orders on antifriction bearings are addressed in the “Issues and Decision Memorandum” (Decision Memo) from Jeffrey May, Deputy Assistant Secretary, to James Jochum, Assistant Secretary, dated September 8, 2004, which is hereby adopted by this notice. A list of the issues which parties have raised and to which we have responded, all of which are in the Decision Memo, is attached to this notice as an Appendix. This Decision Memo, which is a public document, is on file in the Central Records Unit (CRU), Main Commerce Building, Room B-099, and is accessible on the Web at http://ia.ita.doc.gov/frn/index.html. The paper copy and electronic version of the Decision Memo are identical in content.

Sales Below Cost in the Home Market

The Department disregarded home-market sales that failed the cost-of-production test for the following firms for these final results of reviews:

Country | Company | Class or kind of merchandise
France | SKF | Ball.
Germany | SKF, Paul Mueller, and INA/FAG | Ball.
Italy | FAG, SKF | Ball.
Japan | Asahi Seiko, Koyo, NSK, NPBS, and NTN | Ball.
Singapore | NMB/Pelmec | Ball.
United Kingdom | Barden | Ball.

Use of Adverse Facts Available

Section 776(b) of the Act provides that, if the Department finds that an interested party “has failed to cooperate by not acting to the best of its ability to comply with a request for information,” the Department may use information that is adverse to the interests of that party as facts otherwise available.

Section 776(b) of the Act further provides that the Department may use as adverse facts available information derived from the petition, a final determination in an antidumping investigation, any previous review, or any other information placed on the record. The statute does not provide a clear obligation or preference for relying on a particular source in choosing information to use as adverse facts available, but the Department may use as facts available a final determination in a less-than-fair-value proceeding even if the less-than-fair-value determination is based on the best information available. See Certain Cut-to-Length Carbon Steel Plate from Sweden: Final Results of Administrative Review, 62 FR 18396, 18402 (April 15, 1997), and Certain Cut-to-Length Carbon Steel Plate from Mexico: Preliminary Results of Antidumping Duty Administrative Review, 63 FR 48181, 48183 (September 9, 1998).

In the Preliminary Results for France, et al., we determined that the use of facts available as the basis for the weighted-average dumping margin was appropriate for the following companies:

Ace Bearing and Tool (France, Germany, and Italy)

Acorn Industrial Services Limited (Germany)

Aeroengine Bearings (United Kingdom)

Aktif Endustrie (France, Germany, and Italy)

Alphateam SPRL (France, Germany, and Italy)

Australian Bearing Pty Ltd. (France, Germany, and Italy)

Baltic Bearing Supply (France, Germany, and Italy)

Bearing Dynamics (France, Germany, and Italy)

Bearing Sales Corp. (France, Germany, and Italy)

Bearing and Tool GmbH (France, Germany, and Italy)

Budapesti Sved Csapagy Ltd. (France, Germany, and Italy)

Cantoni and C.S.N.C (France, Germany, and Italy)

CCVI Bearing Co. (France, Germany, and Italy)

DCD Corporation (France, Germany, and Italy)

Delta Export (France, Germany, and Italy)

EuroLatin Services (France, Germany, and Italy)

Fair Friend Ent. Co. Ltd. (France, Germany, and Italy)

Friedrich Picard GmbH (France, Germany, and Italy)

Frohlich and Dorken GmbH (France, Germany, and Italy)

Han Sol Technology Corporation (France, Germany, and Italy)

Hayley Import and Export (France, Germany, and Italy)

Heinz Knust (France, Germany, and Italy)

Hergenhan GmbH (France, Germany, and Italy)

Hoens Industrieel BV (France, Germany, and Italy)

IBD Ltd. (France, Germany, and Italy)

International Bearing Pte. Ltd. (France, Germany, and Italy)

Italcuscinetti Group (France, Germany, and Italy)

Kian Ho Bearings (France, Germany, and Italy)

KIS Antriebs Technik GmbH (France, Germany, and Italy)

KSM Minamiguchi/Bearing Manufacturing Co. (France, Germany, and Italy)

LTM Industrietechnik (France, Germany, and Italy)

M. Buchhalter Maschenmode/Hergenhan (France, Germany, and Italy)

Micaknowledge (France, Germany, and Italy)

Minetti SPA (France, Germany, and Italy)

Ming Hing Trading Co. (France, Germany, and Italy)

Motion Bearing Pte. Ltd. (France, Germany, and Italy)

Rodamietos Rovi (France, Germany, and Italy)

Roeirasa (France, Germany, and Italy)

Rovi-Marcay (France, Germany, and Italy)

Rovi-Valencia (France, Germany, and Italy)

Taninaka Ltd. (France, Germany, and Italy)

Top G Trading Company (France, Germany, and Italy)

Withus Technology Corporation (France, Germany, and Italy)

Wyko Export (France, Germany, and Italy)

These companies did not submit adequate responses to our antidumping duty questionnaire.¹ Consequently, we found that they withheld “information that has been requested by the administering authority” under section 776(a)(2) of the Act.

¹ See memoranda from analysts to the file, “Administrative Review of the Antidumping Duty Order on Antifriction Bearings and Parts Thereof from Germany—Responses to Questionnaire (December 11, 2003), Administrative Review of the Antidumping Duty Order on Antifriction Bearings and Parts Thereof from Italy—Responses to Questionnaire (December 11, 2003), and Administrative Review of the Antidumping Duty Order on Antifriction Bearings and Parts Thereof from France—Responses to Questionnaire (December 11, 2003).”

In addition to the above firms, Weber Kugellager International (Weber) did not provide information that was essential for the Department to calculate antidumping margins for the firm (see Section 3 of the concurrent Issues and Decision Memorandum to this notice). Although Weber received a neutral facts available rate in the Preliminary Results for France, et al. (69 FR 5952), the company's failure to provide this information resulted in our use of adverse facts available in these final results of reviews. We also rejected a submission made by Weber on August 3, 2004, as being untimely within the deadlines established by our regulations. See 19 CFR 351.302(d).

In accordance with section 776(b) of the Act, we made an adverse inference in our application of the facts available. This is appropriate because the companies identified above did not provide appropriate responses to our requests for information and, even following the issuance of our preliminary results, did not provide any acceptable rationale for their non-responses. Therefore, we found and continue to find that they have not acted to the best of their ability in providing us with relevant information which is under their control. As adverse facts available for these firms, we have applied the highest rate which we have calculated for any company in any segment of the relevant proceeding on ball bearings from the countries for which these firms have been reviewed. We have selected these rates because they are sufficiently high as to reasonably assure that these firms do not obtain a more favorable result by failing to cooperate. Specifically, the rates are as follows: 66.42 percent for France, 70.41 percent for Germany, 68.29 percent for Italy, and 61.14 percent for the United Kingdom.

Section 776(c) of the Act provides that the Department shall, to the extent practicable, corroborate secondary information used for facts available by reviewing independent sources reasonably at its disposal. Information from a prior segment of the proceeding or from another company in the same proceeding constitutes secondary information. The Statement of Administrative Action accompanying the Uruguay Round Agreements Act, H.R. Doc. 103-316, at 870 (1994) (SAA), provides that the word “corroborate” means that the Department will satisfy itself that the secondary information to be used has probative value. As explained in Tapered Roller Bearings and Parts Thereof, Finished and Unfinished, from Japan, and Tapered Roller Bearings Four Inches or Less in Outside Diameter, and Components Thereof, from Japan: Preliminary Results of Antidumping Duty Administrative Reviews and Partial Termination of Administrative Reviews, 61 FR 57391, 57392 (November 6, 1996) (Tapered Roller Bearings and Parts Thereof from Japan), in order to corroborate secondary information, the Department will examine, to the extent practicable, the reliability and relevance of the information used. Unlike other types of information, however, such as input costs or selling expenses, there are no independent sources for calculated dumping margins. The only source for margins is administrative determinations. Thus, with respect to an administrative review, if the Department chooses as facts available a calculated dumping margin from a prior segment of the proceeding, it is not necessary to question the reliability of the margin for that time period.

With respect to the relevance aspect of corroboration, however, the Department will consider information reasonably at its disposal as to whether there are circumstances that would render a margin not relevant. Where circumstances indicate that the selected margin is not appropriate as adverse facts available, the Department will disregard the margin and determine an appropriate margin. See Fresh Cut Flowers from Mexico; Final Results of Antidumping Duty Administrative Review, 61 FR 6812, 6814 (February 22, 1996), where the Department disregarded the highest dumping margin as best information available because the margin was based on another company's uncharacteristic business expense resulting in an unusually high margin. Further, in accordance with F.LII De Cecco Di Filippo Fara S. Martino S.p.A. v. United States, 216 F.3d 1027 (CAFC June 16, 2000), we also examine whether information on the record would support the selected rates as reasonable facts available.

We find that the rates which we are using for these final results have probative value. We compared the selected margins to margins calculated on individual sales of the merchandise in question made by the French, German, Italian, and U.K. companies covered by the instant review. We found that a number of sales in commercial quantities had dumping margins near or exceeding the rates under consideration. The details of this analysis are contained in the memoranda from the case analysts to Mark Ross or Laurie Parkhill.² This evidence supports an inference that the selected rates reflect the actual dumping margins for the firms in question.

² See the memorandum entitled The Use of Adverse Facts Available and Corroboration of Secondary Information for Italy (September 8, 2004), The Use of Facts Available and Corroboration of Secondary Information for France (February 2, 2004), and The Use of Adverse Facts Available and Corroboration of Secondary Information for Germany (September 8, 2004). Also, see the memorandum on the United Kingdom review record entitled The Use of Facts Available and Corroboration of Secondary Information for Aeroengine Bearings (September 8, 2004), and the memoranda on the review records for France, Germany, and the United Kingdom entitled The Use of Adverse Facts Available and Corroboration of Secondary Information for Weber Kugellager International (September 8, 2004) (collectively, Corroboration Memoranda).

These rates are the current cash-deposit rates for a number of firms (e.g., in the Germany proceeding, 70.41 percent is the current deposit rate for, among other firms, Timken (formerly Torrington Nadellager), NTN, Bearings Discount International GmbH, Motion Bearings, and Alphateam SPRL). Furthermore, there is no information on the record that demonstrates that the rates we have selected are inappropriate for use as the total adverse facts-available rates for the companies in question. Therefore, we consider the selected rates to have probative value with respect to the firms in question in these reviews and to reflect the appropriate adverse inferences.

Other Changes Since the Preliminary Results

Based on our analysis of comments received, we have made revisions that have changed the results for certain firms. We have corrected programming and clerical errors in the preliminary results, where applicable. Any alleged programming or clerical errors about which we or the parties do not agree are discussed in section 10 of the Decision Memo.

Rescission of the Review in Part

In the Preliminary Results for France, et al., we stated our intent to rescind the administrative reviews of bearings that were exported by Comal SNC (France, Germany, Italy), Interspecies Donath GmbH (France, Germany, Italy), and BTM Bearing Trade F.C. Miltner (BTM) (France, Germany, Italy and the United Kingdom). Comal SNC and Interspecies Donath GmbH were unlocatable and BTM was not the proper party to review because it was a reseller and all of its suppliers had knowledge at the time of sale that the merchandise was destined for the United States. See 69 FR at 5951. Since the status of these firms remains unchanged and we have received no additional information or argument as to our treatment of these companies, we hereby rescind the reviews with respect to these companies in these final results.

In the preliminary results of the reviews, we also indicated that, for certain companies that reported no shipments of merchandise subject to those reviews, we intended to rescind these reviews at the time of our final results if we continued to find no evidence of sales during the period of review (69 FR 5959 at footnote 1). However, as we indicated in Antifriction Bearings (Other than Tapered Roller Bearings) and Parts Thereof from France, Germany, Italy, Japan, Sweden, and the United Kingdom; Final Results of Antidumping Duty Administrative Reviews and Revocation of Orders in Part, 66 FR 36551, 36554 (July 12, 2001), and in Ball Bearings and Parts Thereof from France, Germany, Italy, Japan, and the United Kingdom; Final Results of Antidumping Duty Administrative Reviews, 67 FR 55780, 55781 (August 30, 2002), since it is impossible to establish with certainty from U.S. Customs and Border Protection (CBP) data the accuracy of their statements, we will instruct CBP at the time of liquidation to review all documentation for suspended entries of subject merchandise. If CBP finds that any of the “no-shipment” respondents, in fact, had shipments of subject merchandise during the POR, we will instruct CBP to apply a facts-available rate to such respondents based on the adverse facts-available rate we have determined for the applicable country of origin and subject merchandise and we are not rescinding the reviews for the respondents in question.

Revocation of Order in Part

In the Preliminary Results for France, et al., we stated our intent to revoke the order on ball bearings from Germany in part with respect to Paul Mueller. See 69 FR at 5953-54. We find that, for Paul Mueller, the regulatory requirement for revocation has been satisfied. See 19 CFR 351.222(d)(1). We have received no information or argumentation since the Preliminary Results for France, et al. which would cause us to change this determination. Accordingly, we revoke the order in part with respect to all subject merchandise manufactured and exported by Paul Mueller in these final results of review. See the Analysis Memorandum for the Preliminary Results of Review for Paul Mueller, dated February 2, 2004.

Final Results of the Reviews

We determine that the following percentage weighted-average margins on ball bearings exist for the period of May 1, 2002, through April 30, 2003:

Company | Margin
FRANCE—Ball Bearings
Ace Bearing and Transmission Service | 66.42
Aktif Endustrie Malzemeleri | 66.42
Alphateam SPRL | 66.42
Australian Bearing Pty Ltd | 66.42
Baltic Bearing Supply | 66.42
Bearing and Tool GmbH | 66.42
Bearing Dynamics | 66.42
Bearing Sales Corp | 66.42
Budapesti Sved Csapagy Ltd | 66.42
Cantoni and C.S.N.C | 66.42
CCVI Bearing Co | 66.42
DCD Corp | 66.42
Delta Export GmbH | 66.42
EuroLatin Ex. Services | 66.42
Fair Friend Ent. Co. Ltd | 66.42
Friedrich Picard GmbH | 66.42
Frohlich and Dorken GmbH | 66.42
Han Sol Tech. Corp/Yoo Shin Co | 66.42
Hayley Import/Export | 66.42
Heinz Knust | 66.42
Hergenhan GmbH | 66.42
Hoens Industrieel BV | 66.42
IBD Ltd | 66.42
International Bearing Pte. Ltd | 66.42
Italcuscinetti Group | 66.42
Kian Ho Bearings, Ltd | 66.42
KIS Antriebs Technik GmbH | 66.42
KSM, Minamiguchi/Bearing Manufacturing Co | 66.42
LTM Industrietechnik | 66.42
M. Buchhalter Maschenmode/Hergenhan | 66.42
Micaknowledge | 66.42
Minetti SpA | 66.42
Ming Hing Trading Co | 66.42
Motion Bearing Pte. Ltd | 66.42
Ringball Corporation | 2.94
Rodamietos Rovi | 66.42
Roeirasa | 66.42
Rovi-Marcay | 66.42
Rovi-Valencia | 66.42
SKF France S.A. and Sarma | 5.25
SNR Roulements | 6.40
Taninaka Ltd | 66.42
Top G Trading Pte Ltd | 66.42
Weber Kugellager Int | 66.42
Withus Technology Corporation | 66.42
Wyko Export | 66.42
FRANCE—Spherical Plain Bearings
SKF France S.A. and Sarma | 22.72
GERMANY—Ball Bearings
Ace Bearing and Transmission Service | 70.41
Acorn Industrial Services Limited | 70.41
Aktif Endustrie Malzemeleri | 70.41
Alphateam SPRL | 70.41
Australian Bearing Pty Ltd | 70.41
Baltic Bearing Supply | 70.41
Bearing and Tool GmbH | 70.41
Bearing Dynamics | 70.41
Bearing Sales Corp | 70.41
Budapesti Sved Csapagy Ltd | 70.41
Cantoni and C.S.N.C | 70.41
CCVI Bearing Co | 70.41
DCD Corp | 70.41
Delta Export GmbH | 70.41
EuroLatin Ex. Services | 70.41
Fair Friend Ent. Co. Ltd | 70.41
Friedrich Picard GmbH | 70.41
Frohlich and Dorken GmbH | 70.41
Han Sol Tech. Corp/Yoo Shin Co | 70.41
Hayley Import/Export | 70.41
Heinz Knust | 70.41
Hergenhan GmbH | 70.41
Hoens Industrieel BV | 70.41
IBD Ltd | 70.41
INA/FAG | 5.59
International Bearing Pte. Ltd | 70.41
Italcuscinetti Group | 70.41
Kian Ho Bearings, Ltd | 70.41
KIS Antriebs Technik GmbH | 70.41
KSM, Minamiguchi/Bearing Manufacturing Co | 70.41
LTM Industrietechnik | 70.41
M. Buchhalter Maschenmode/Hergenhan | 70.41
Micaknowledge | 70.41
Minetti SpA | 70.41
Ming Hing Trading Co | 70.41
Motion Bearing Pte Ltd. | 70.41
Paul Mueller | 0.36
Ringball | 6.54
Rodamietos Rovi | 70.41
Roeirasa | 70.41
Rovi-Marcay | 70.41
Rovi-Valencia | 70.41
SKF GmbH | 2.49
Taninaka Ltd | 70.41
Top G Trading Pte Ltd | 70.41
Weber Kugellager Int | 70.41
Withus Technology Corporation | 70.41
Wyko Export | 70.41
ITALY—Ball Bearings
Ace Bearing and Transmission Service | 68.29
Aktif Endustrie Malzemeleri | 68.29
Alphateam SPRL | 68.29
Australian Bearing Pty Ltd | 68.29
Baltic Bearing Supply | 68.29
Bearing and Tool GmbH | 68.29
Bearing Dynamics | 68.29
Bearing Sales Corp | 68.29
Budapesti Sved Csapagy Ltd | 68.29
Cantoni and C.S.N.C | 68.29
CCVI Bearing Co | 68.29
DCD Corp | 68.29
Delta Export GmbH | 68.29
EuroLatin Ex. Services | 68.29
FAG Italia S.p.A | 4.79
Fair Friend Ent. Co. Ltd | 68.29
Friedrich Picard GmbH | 68.29
Frohlich and Dorken GmbH | 68.29
Han Sol Tech. Corp/Yoo Shin Co | 68.29
Hayley Import/Export | 68.29
Heinz Knust | 68.29
Hergenhan GmbH | 68.29
Hoens Industrieel BV | 68.29
IBD Ltd | 68.29
International Bearing Pte. Ltd | 68.29
Italcuscinetti Group | 68.29
Kian Ho Bearings, Ltd | 68.29
KIS Antriebs Technik GmbH | 68.29
KSM, Minamiguchi/Bearing Manufacturing Co | 68.29
LTM Industrietechnik | 68.29
M. Buchhalter Maschenmode/Hergenhan | 68.29
Micaknowledge | 68.29
Minetti SpA | 68.29
Ming Hing Trading Co | 68.29
Motion Bearing Pte. Ltd | 68.29
Ringball | 3.45
Rodamietos Rovi | 68.29
Roeirasa | 68.29
Rovi-Marcay | 68.29
Rovi-Valencia | 68.29
SKF Industrie S.p.A | 1.38
Taninaka Ltd | 68.29
Top G Trading Pte Ltd | 68.29
Weber Kugellager Int | 68.29
Withus Technology Corporation | 68.29
Wyko Export | 68.29
JAPAN—Ball Bearings
Asahi Seiko Co. Ltd | 0.23
Koyo Seiko Co., Ltd | 5.56
Nankai Seiko | 0.46
Nippon Pillow Block Sales | 3.37
NSK Ltd | 2.46
NTN Corp | 2.74
Osaka Pump | 1.78
Sapporo Precision | 8.74
Takeshita Seiko | 2.90
SINGAPORE—Ball Bearings
NMB/Pelmec | 1.94
UNITED KINGDOM—Ball Bearings
Aeroengine Bearings | 61.14
Barden/FAG | 4.10

Assessment Rates

The Department will determine and CBP shall assess, antidumping duties on all appropriate entries. We will issue appropriate assessment instructions directly to CBP within 15 days of publication of these final results of reviews. In accordance with 19 CFR 351.212(b)(1), we have calculated, whenever possible, an exporter/importer-specific assessment rate or value for subject merchandise.

With respect to the companies which did not respond to our questionnaire for these reviews, the Department will instruct CBP to liquidate all imports of subject merchandise for which the non-responsive companies acted in any aspect of the transaction at the applicable adverse-facts-available rate for each country unless the manufacturer of the subject merchandise listed that non-responsive company as an EP customer.

The Department clarified its “automatic assessment” regulation on May 6, 2003 (68 FR 23954). This clarification will apply to entries of subject merchandise during the period of review produced by companies included in these final results of reviews for which the reviewed companies did not know their merchandise was destined for the United States. In such instances, we will instruct CBP to liquidate unreviewed entries at the all-others rate if there is no rate for the intermediate company(ies) involved in the transaction. For a full discussion of this clarification, see Notice of Policy Concerning Assessment of Antidumping Duties, 68 FR 23954 (May 6, 2003).

a. Export Price

With respect to export-price (EP) sales, we divided the total dumping margins (calculated as the difference between normal value and the EP) for each exporter's importer/customer by the total number of units the exporter sold to that importer/customer. We will direct CBP to assess the resulting per-unit dollar amount against each unit of merchandise on each of that importer's/customer's entries under the relevant order during the review period.

b. Constructed Export Price

For constructed export-price (CEP) sales (sampled and non-sampled), we divided the total dumping margins for the reviewed sales by the total entered value of those reviewed sales for each importer. We will direct CBP to assess the resulting percentage margin against the entered customs values for the subject merchandise on each of that importer's entries under the relevant order during the review period. See 19 CFR 351.212(b)(1).

Cash-Deposit Requirements

To calculate the cash-deposit rate for each respondent (i.e., each exporter and/or manufacturer included in these reviews), we divided the total dumping margins for each company by the total net value of that company's sales of merchandise during the review period subject to each order.

To derive a single deposit rate for each respondent, we weight-averaged the EP and CEP deposit rates (using the EP and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. Finally, we divided the combined total dumping margins for both EP and CEP sales by the combined total value for both EP and CEP sales to obtain the deposit rate.

We will direct CBP to collect the resulting percentage deposit rate against the entered customs value of each of the exporter's entries of subject merchandise entered, or withdrawn from warehouse, for consumption on or after the date of publication of this notice. Entries of parts incorporated into finished bearings before sales to an unaffiliated customer in the United States will receive the respondent's deposit rate applicable to the order.

Furthermore, the following deposit requirements will be effective upon publication of this notice of final results of administrative reviews for all shipments of the subject merchandise entered, or withdrawn from warehouse, for consumption on or after the date of publication, as provided by section 751(a)(1) of the Act: (1) The cash-deposit rates for the reviewed companies will be the rates shown above except that, for firms whose weighted-average margins are less than 0.5 percent and, therefore, de minimis, the Department will not require a deposit of estimated antidumping duties; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; (4) the cash-deposit rate for all other manufacturers or exporters will continue to be the “All Others” rate for the relevant order made effective by the final results of review published on July 26, 1993. See Antifriction Bearings (Other Than Tapered Roller Bearings) and Parts Thereof From France, et al: Final Results of Antidumping Duty Administrative Reviews and Revocation in Part of an Antidumping Duty Order, 58 FR 39729 (July 26, 1993). For ball bearings from Italy, see Antifriction Bearings (Other Than Tapered Roller Bearings) and Parts Thereof From France, et al; Final Results of Antidumping Duty Administrative Reviews, Partial Termination of Administrative Reviews, and Revocation in Part of Antidumping Duty Orders, 61 FR 66472, 66521 (December 17, 1996). These rates are the “All Others” rates from the relevant LTFV investigation.

These deposit requirements shall remain in effect until publication of the final results of the next administrative reviews.

This notice serves as a reminder to importers of their responsibility under 19 CFR 351.402(f) to file a certificate regarding the reimbursement of antidumping duties prior to liquidation of the relevant entries during these review periods. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the return or destruction of APO materials or conversion to judicial protective order is hereby requested. Failure to comply with the regulations and the terms of an APO are sanctionable violations. We are issuing and publishing these determinations in accordance with sections 751(a)(1) and 777(i) of the Act.

Dated: September 8, 2004.
James J. Jochum,
Assistant Secretary for Import Administration.

Appendix

Comments and Responses

1. Offsetting Margins with Above-Normal-Value Transactions

2. Model-Match Methodology

3. Adverse Facts Available

4. Indirect Selling Expenses

5. Allocation Methodology

6. Movement Expenses

7. Sample Sales

8. Billing Adjustments and Rebates

9. Cost Issues

10. Clerical Errors

11. Miscellaneous Issues

A. Performance Lubricant

B. HM Sales Reporting by NPBS

C. Sales Outside the Ordinary Course of Trade

D. Home-Market Interest Rate

E. Home-Market Commissions

[FR Doc. E4-2195 Filed 9-14-04; 8:45 am]

BILLING CODE 3510-DS-P